DEPARTMENT OF DEFENSE

Department of the Army; Corps of Engineers

Notice of Availability of a Draft Supplemental Environmental Impact Statement/Subsequent Environmental Impact Report for the Sacramento River Deep Water Ship Channel

AGENCY: Department of the Army, U.S. Army Corps of Engineers, DoD.

ACTION: Notice.

SUMMARY: The U.S. Army Corps of Engineers (USACE) and the Port of West Sacramento (Port) propose to reinitiate the previously authorized deepening from −30 feet mean lower low water (MLLW) to −35 feet MLLW and selective widening of the Sacramento River Deep Water Ship Channel (SRDWSC). This project was partially completed in 1990, but was suspended due to lack of funding. The USACE is the lead agency for this project under the National Environmental Policy Act (NEPA). The Port is the lead agency for this project under the California Environmental Quality Act (CEQA).

DATES: Submit comments by: April 11, 2011.

ADDRESSES: Written comments about the SRDWSC Supplemental Environmental Impact Statement/Subsequent Environmental Impact Report (SEIS/SEIR) can be addressed to: Bill Brostoff, U.S. Army Corps of Engineers, San Francisco District, 1455 Market Street, 15th Floor, ET-PA, San Francisco, CA 94103; spnetpa@usace.army.mil; 415-503-6867.

FOR FURTHER INFORMATION CONTACT: Bill Brostoff or Fari Tabatabai, U.S. Army Corps of Engineers, San Francisco District, 1455 Market Street, 15th Floor, ET-PA, San Francisco, CA 94103; spnetpa@usace.army.mil; 415-503-6867 or 415-503-6860.

SUPPLEMENTARY INFORMATION: The SRDWSC was originally constructed in 1963 to a depth of 30 feet. In 1969, Congress authorized studying deepening the channel from −30 to −35 feet MLLW. In support of this effort, USACE completed the Sacramento River Deep Water Ship Channel, California: Feasibility Report and Environmental Impact Statement for Navigation and Related Purposes in 1980, and a General Design Memorandum and Final Supplemental Environmental Impact Statement in 1986. River miles (RMs) 35.0 to 43.4 of the SRDWSC were deepened to −35 feet MLLW in 1989; however, work was suspended in 1990 due to funding constraints and now-resolved issues pertaining to utility relocations.

The purpose of the Channel Deepening to −35 Feet MLLW and Selective Widening Alternative (Proposed Project) is to resume deepening of the SRDWSC to its congressionally authorized depth to realize increased economic benefits associated with a reduced transportation cost of moving goods to the Port, and provide safe navigation for commercial marine traffic. Currently, vessels traveling to the Port laden with some commodity types must “light-load” (travel less than fully loaded with the desired amount of cargo) to navigate the SRDWSC with sufficient under-keel clearance. In addition, the existing widths of sections of the SRDWSC can make navigating to the Port difficult, particularly in inclement weather. The Proposed Project, therefore, involves both deepening the SRDWSC to a depth of 35 feet from RMs 0.0 to 35.0 and widening in selective areas within that stretch of channel, thus completing the construction suspended in 1990. It also includes maintenance dredging from RMs 35.0 to 43.4 to return that previously constructed portion of the channel to its 35-foot depth. The total volume of dredged material is estimated to be approximately 10 million cubic yards (cy) including a 2-foot overdepth. An extensive search was conducted of beneficial use opportunities in California's Sacramento-San Joaquin River Delta identifying a wide array of potential placement sites. The Proposed Project involves ten upland dredged material placement sites selected to either permanently accommodate or temporarily stockpile dredged material for later beneficial use.

Alternatives involving dredging and non-dredging were considered. Non-dredging alternatives included intermodal transportation (i.e., using rail or truck), use of Lighter Aboard Ship (LASH; i.e., transferring material to barges), and constructing locks. These alternatives were eliminated from detailed analysis because their costs were too high (intermodal, locks) or facilities were not available (LASH).

The SRDWSC SEIS/SEIR analyzes the following three alternatives: (1) Future without Project Conditions (or the No Action/No Project Alternative); (2) Channel Deepening to −35 Feet MLLW and Selective Widening Alternative (Proposed Project); and (3) Channel Deepening to −33 Feet MLLW and Selective Widening Alternative (−33 Feet MLLW Alternative). Future without Project Conditions consists of a continuation of present shipping and channel maintenance practices and estimated physical, biological, and human environmental conditions likely to be present over the next 50 years with no improvements to the SRDWSC other than normal channel maintenance. The −33 Feet MLLW Alternative would result in total dredged material volume of 5.2 million cy with a 2-foot overdepth.

A public meeting will be held on Monday, March 21, 2011, from 5 to 7 p.m. at the West Sacramento City Hall, 1110 West Capitol Avenue, West Sacramento, CA 95691. The SRDWSC SEIS/SEIR is available for review at http://www.sacramentoshipchannel.org. Copies of the document are also available for review during normal business hours at:

(1) Port of West Sacramento—1110 West Capitol Ave, 1st Floor, West Sacramento, CA 95691.

(2) Rio Vista Library—44 South Second Street, Rio Vista, CA 94571.

(3) USACE San Francisco District—1455 Market Street, San Francisco, CA 94103.

(4) Peter J. Shields Library (University of California, Davis)—100 Northwest Quad, Davis, CA 95616.

(5) San Francisco's Main Library—101 Larkin Street, San Francisco, CA 94102.

(6) Sacramento's Central Library—828 I Street, Sacramento, CA 95814.

(7) Isleton Library—Isleton Elementary School, 415 Union Street, Isleton, CA 95641.

(8) Arthur F. Turner Community Library (West Sacramento)—1212 Merkley Avenue, West Sacramento, CA 95691.

Dated: February 15, 2011.
Torrey A. DiCiro,
Lieutenant Colonel, U.S. Army, Commanding.

[FR Doc. 2011-4239 Filed 2-24-11; 8:45 am]

BILLING CODE 3720-58-P